DEPARTMENT OF THE INTERIOR

Bureau of Land Management

[MT-010-1220-AD]

Notice of Closure to Firearms Target Shooting on Public Lands in Yellowstone County Managed by the Billings Field Office, Bureau of Land Management; Montana, Implementation of Record of Decision for Environmental Assessment MT-010-03-08

AGENCY: Bureau of Land Management, Interior.

ACTION: Notice.

SUMMARY: This notice closes certain public lands in Yellowstone County, Montana, to target shooting with firearms. This restriction is necessary for the management of actions, activities, and public use on certain public lands that may have, or are having, adverse impacts on persons using public lands, on property, and on resources located on public lands. Increasing levels of public use are creating conflicts between different user groups. Hikers, horseback riders, mountain bikers, wildlife observers, hunters, and target shooters all utilize the subject lands.

EFFECTIVE DATE: This restriction takes effect on April 7, 2005 and will remain in effect until it is amended or repealed.

ADDRESSES: You may mail or hand-deliver inquiries or suggestions or comments on the closure to Bureau of Land Management, Billings Field Office, 5001 Southgate Drive, P.O. Box 36800, Billings, Montana 59107-6800.

FOR FURTHER INFORMATION CONTACT: Sandra S. Brooks, Field Manager, BLM, Billings Field Office, P.O. Box 36800, 5001 Southgate Drive, Billings, MT 50107-6800, or call (406) 896-5013.

SUPPLEMENTARY INFORMATION: A complete copy of Environmental Assessment #MT-010-03-08, which supports this restriction, may be viewed at: http://www.mt.blm.gov/bifo/ea/ShootingEA/FinalShootingEA.pdf.

While hikers, horseback riders, mountain bicyclists and other users can schedule their use around published hunting seasons for safety reasons; they are not able to avoid random target shooting. Local conditions, including heavy timber and rough terrain, reduce visibility and increase the hazard to other users from target shooters. Recent incidents involving random target shooting have resulted in endangerment and injury to other users. To reduce the incidence of future conflicts, three areas of public land known as the Acton Area, 21-Mile Area, and Shepherd Ah-Nei, located north of Billings, Montana, are being closed to target shooting with firearms. These areas will remain open to hunting by licensed hunters during seasons administered by the Montana Department of Fish, Wildlife and Parks.

This Restriction does not apply to other lands, specifically the “17-Mile” area located west of Highway 87, north of Billings, Montana, on the Crooked Creek Road.

Affected Lands: The affected lands are all public lands administered by the Billings Field Office, and include the following public lands:

Principal Meridian, Montana

That area of public lands commonly referred to as the “Acton Area” or “Acton Ah-Nei” located at:

T. 4 N., R. 25 E.,

Sect. 31, E½

T. 3 N, R. 25 E.,

Sect. 5, all;

Sect. 6, NE¼;

Sect. 7, N½; SE¼; E½; SW¼;

Sect. 8, all;

Sect. 9, all;

Sect. 17, all;

Sect. 20, N½ N½.

That area of public lands commonly referred to the “21-Mile Area” located at

T. 4 N., R. 25 E.,

Sect. 24, all.

That area of public lands commonly referred to the “Shepherd Area,” or “Shepherd Ah Nei” located at:

T. 4 N., R. 27 E.,

Sect. 24, NE¼, S½;

Sect. 25, all;

Sect. 36, all;

T. 3 N., R. 27 E.,

Sect. 1, all;

T. 4 N., R. 28 E.,

Sect. 19, all;

Sect. 20, W½;

Sect. 30, W½, NW¼, N½, NE¼.

Sect. 31, all;

T. 3 N., R. 28 E.,

Sect. 6, S½, W¼NW¼, E½NE¼, E½W½NE¼, all in Yellowstone County, in the State of Montana

Restriction

1.0 Restriction of Target Shooting on Affected Public Lands.

The following is prohibited: Discharge of firearms for the purpose of target shooting.

2.0 Exceptions

(a) This restriction does not apply to the hunting of lawful game by licensed hunters during seasons administered by the Montana Department of Fish, Wildlife and Parks.

(b) This restriction does not apply to archery marksmanship at fixed targets affixed to a backstop sufficient to stop and hold target or broad-head arrows.

(c) This restriction does not apply to special target shooting events, which may be authorized by the authorized officer under special permit.

Penalties: Violations of this restriction are punishable by a fine in accordance with the Sentencing Reform Act of 1984 (18 U.S.C. 3551 et seq.), and/or imprisonment not to exceed 12 months for each offense. The authority for this closure is 43 CFR 8364.1(a).

Dated: January 14, 2005.
Eddie Bateson,
Acting Field Office Manager, Billings Field Office.

[FR Doc. 05-4424 Filed 3-7-05; 8:45 am]

BILLING CODE 4310-$$-P